Title 3—

The President

Proclamation 7859 of January 1, 2005

Honoring the Memory of the Victims of the Indian Ocean Earthquake and Tsunamis

By the President of the United States of America

A Proclamation

As a mark of respect for the victims of the Indian Ocean Earthquake and the resulting Tsunamis, I hereby order, by the authority vested in me by the Constitution and laws of the United States of America, that the flag of the United States shall be flown at half-staff at the White House and on all public buildings and grounds, at all military posts and naval stations, and on all naval vessels of the Federal Government in the District of Columbia and throughout the United States and its Territories and possessions from Monday, January 3, 2005, until sunset, Friday, January 7, 2005. I also direct that the flag shall be flown at half-staff for the same period at all United States embassies, legations, consular offices, and other facilities abroad, including all military facilities and naval vessels and stations.

IN WITNESS WHEREOF, I have hereunto set my hand this first day of January, in the year of our Lord two thousand five, and of the Independence of the United States of America the two hundred and twenty-ninth.

B

[FR Doc. 05-328

Filed 1-04-05; 11:14 am]

Billing code 3195-01-P